DEPARTMENT OF COMMERCE

[Docket No. 000817241-4074-02]

Identification of Currently Funded Projects Eligible to be Extended for an Additional Year of Funding in Light of the Department of Commerce's Intent to Revise the Postsecondary Internship Program

AGENCY: Department of Commerce.

ACTION: Notice.

SUMMARY: The Department of Commerce (DOC) publishes this notice to announce that the project award period of cooperative agreements under the Postsecondary Internship Program (PIP) is extended for an additional year of funding. The Federal Register notice that solicited applications for the program established the total project award period for cooperative agreements under the Postsecondary Internship Program as three (3) years. (65 FR 63231, October 23, 2000) The office administering the program at the time the cooperative agreements were awarded, the DOC Office of Executive Assistance Management, has recently been reorganized, with subsequent realignment of the program management responsibilities to the DOC Office of Human Resources Management (OHRM.) This extension of time will permit DOC's OHRM to implement an overall program review, consider potential enhancements and revisions of the program scope, work requirements and performance measures for the Postsecondary Internship Program. This notice also identifies specific program recipients who will be eligible for an additional year of funding. It is OHRM's intent to assess the future direction of the program especially in outlining initiatives for successful and strategic management of human capital. DOC's OHRM has a workforce restructuring plan in place, has identified best practices for succession planning, and is tracking DOC mission-critical occupations which will suffer a severe and identifiable shortage over the next five years.

DATES: The award period is extended as of March 4, 2004.

FOR FURTHER INFORMATION CONTACT: Mrs. Carin M. Otero, (202) 482-1445.

SUPPLEMENTARY INFORMATION: The Postsecondary Internship Program (PIP) was developed as one vehicle the DOC uses to promote participation of minorities in Federal programs as mandated by Executive Orders and statutes. Title 5, section 7201 of the U.S. Code requires that each Executive agency conduct a continuing program for the recruitment of members of minorities to address under representation of minorities in various categories of Federal employment. Executive Order 13256 provides for Executive departments to enter into, among other things, cooperative agreements with Historically Black Colleges and Universities (HBCUs) to further the goals of the Executive Order, principally that of strengthening the capacity of HBCUs to provide quality education, and to increase opportunities to participate in and benefit from Federal programs. Executive Order 13230 calls for Executive departments to develop plans to increase opportunities for Hispanic Americans to participate in and benefit from Federal education programs. Executive Order 13270 helps ensure that greater Federal resources are available to the tribal colleges. Executive Order 13216 directs Federal agencies to increase participation of Asian and Pacific Islanders in Federal programs.

In order to ensure that the Federal Government can maintain visibility and attractiveness to the “best and brightest” college students, this program supports partnerships between Federal departments and nonprofit or educational institutions. This program continues to improve opportunities for college students to prepare for their transition to the workplace and foster human resource diversity at DOC.

As part of the review and revision of the program, DOC amends the award period to provide an additional year of funding, on a non-competitive basis, to current intern program recipients who will be completing the third year of partnership with DOC. The additional year of funding will permit student participation through the 2005 spring session of the program (January through May) which coincides with the academic year. Specifically, the additional year of funding will comprise the 2004 summer session, the 2004 fall session and the 2005 spring session of the program. Funding for the additional year will be at the sole discretion of the DOC and will depend on satisfactory performance by the recipients, the availability of funds, and Agency priorities that support the continuation of the project. DOC has no obligation to provide any additional future funding in connection with this award. Renewal of an award to increase funding or extend the period of performance is at the total discretion of DOC.

Under normal circumstances, Postsecondary Internship Program partners would conduct a new competition at the end of the three year award period. However, due to the addition of a fourth year of funding, the Postsecondary Internship Program did not conduct a competition during 2003. The additional year of funding, as announced in this notice, will allow OHRM the necessary time to review and develop its revised program.

The following program partners are affected by this notice and will be eligible for an additional year of funding, which includes the 2005 spring session for an extension of the project award period for a total of 15 months (3/1/04-5/31/05), on a non-competitive basis: American Indian Science and Engineering Society, Hispanic Association of Colleges and Universities National Intern Program, Minority Access, Inc., and Oak Ridge Associated Universities.

The Department of Commerce Pre-Award Notification Requirements for Grants and Cooperative Agreements contained in the Federal Register notice of October 1, 2001 (66 FR 49917), as amended by the Federal Register notice published on October 30, 2002 (67 FR 66109), are applicable to this notice.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Authority: 5 U.S.C. 7201 and Executive Orders 13216, 13230, 13256, and 13270.

Dated: March 1, 2004.
Deborah A. Jefferson,
Director for Human Resources Management.

[FR Doc. 04-4883 Filed 3-3-04; 8:45 am]

BILLING CODE 3510-BS-P